GENERAL SERVICES ADMINISTRATION

[OMB Control No. 3090-0235]

Submission for OMB Review; Comment Request Entitled Price Reductions Clause

AGENCY: Office of Acquisition Policy, GSA.

ACTION: Notice of request for comments regarding an extension to an existing OMB clearance 3090-0235, Price Reductions Clause.

SUMMARY: Under the provisions of the Paperwork Reduction Act of 1995 (44 U.S.C. Chapter 35), the General Services Administration, Office of Acquisition Policy has submitted to the Office of Management and Budget (OMB) a request to review and approve an extension of a currently approved information collection requirement concerning Price Reductions Clause.

DATES: Comment Due Date: December 31, 2001.

ADDRESSES: Comments regarding this collection of information should be submitted to: Ed Springer, GSA Desk Officer, OMB, Room 10236, NEOB, Washington, DC 20503, and a copy to Stephanie Morris, General Services Administration, Acquisition Policy Division, 1800 F Street, NW., Room 4035, Washington, DC 20405.

FOR FURTHER INFORMATION CONTACT: Beverly Cromer, Office of GSA Acquisition Policy (202) 208-6750.

SUPPLEMENTARY INFORMATION:

A. Purpose

The GSA is requesting the Office of Management and Budget (OMB) to review and approve information collection, 3090-0235, The Price Reductions Clause. The Price Reductions Clause used in multiple award schedule contracts ensures that the Government maintains its relationship with the contractor's customer or category of customers, upon which the contract is predicated.

B. Annual Reporting Burden

Number of Respondents: 9,547.

Total Annual Responses: 19,094.

Percentage of these responses collected electronically: 100.

Average hours per response: 7.5 hours.

Total Burden Hours: 143,205.

Obtaining Copies of Proposals

Requester may obtain a copy of the proposal from the General Services Administration, Regulatory Secretariat (MVP), 1800 F Street, NW., Room 4035, Washington, DC 20405, telephone (202) 501-4744. Please cite OMB Control No. 3090-0235, Price Reductions Clause.

Dated: October 22, 2001.
Al Matera,
Director, Acquisition Policy Division.

[FR Doc. 01-27305 Filed 10-29-01; 8:45 am]

BILLING CODE 6220-61-M